DEPARTMENT OF ENERGY

10 CFR Part 430

[Docket Number EERE-2014-BT-STD-0031]

RIN 1904-AD20

Energy Conservation Program for Consumer Products: Energy Conservation Standards for Residential Furnaces

AGENCY: Office of Energy Efficiency and Renewable Energy, Department of Energy.

ACTION: Extension of public comment period.

SUMMARY: On March 12, 2015, the U.S. Department of Energy (DOE) published in the Federal Register a notice of proposed rulemaking (NOPR) and technical support document (TSD) that analyze the potential economic impacts and energy savings that could result from potential energy conservation standards for certain residential furnaces. DOE published this NOPR and analysis so stakeholders can review and provide input on the relevant outputs and the underlying assumptions and calculations. The comment period for the NOPR pertaining to the subject residential furnaces was scheduled to end June 10, 2015. After receiving requests for additional time to comment, DOE has decided to extend the comment period for the NOPR pertaining to the energy conservation standards for residential furnaces until July 10, 2015.

DATES: DOE will accept comments, data, and information regarding the notice of proposed rulemaking no later than July 10, 2015.

ADDRESSES: Instructions: All comments submitted must identify the NOPR for Energy Conservation Standards for Residential Furnaces, and provide docket number EERE-2014-BT-STD-0031 and/or regulatory information number (RIN) number 1904-AD20. Comments may be submitted using any of the following methods:

1. Federal eRulemaking Portal: www.regulations.gov. Follow the instructions for submitting comments.

2. Email: ResFurnaces2014STD0031@ee.doe.gov. Include the docket number and/or RIN in the subject line of the message. Submit electronic comments in Word Perfect, Microsoft Word, PDF, or ASCII file format, and avoid the use of special characters or any form on encryption.

3. Postal Mail: Ms. Brenda Edwards, U.S. Department of Energy, Building Technologies Office, Mailstop EE-5B, 1000 Independence Avenue SW., Washington, DC 20585-0121. If possible, please submit all items on a compact disc (CD), in which case it is not necessary to include printed copies.

4. Hand Delivery/Courier: Ms. Brenda Edwards, U.S. Department of Energy, Building Technologies Office, 950 L'Enfant Plaza SW., Suite 600, Washington, DC 20024. Telephone: (202) 586-2945. If possible, please submit all items on a CD, in which case it is not necessary to include printed copies.

No telefacsimilies (faxes) will be accepted. For detailed instructions on submitting comments and additional information on the rulemaking process, see the “Public Participation” section of the March 12, 2015 NOPR. 80 FR 13120.

Docket: The docket, which includes Federal Register notices, public meeting attendee lists and transcripts, comments, and other supporting documents/materials, is available for review at www.regulations.gov. All documents in the docket are listed in the www.regulations.gov index. However, not all documents listed in the index may be publically available, such as those containing information that is exempt from public disclosure.

A link to the docket Web page can be found at: http://www.regulations.gov/#!docketDetail;D=EERE-2014-BT-STD-0031. This Web page contains a link to the docket for this notice on the www.regulations.gov site. The www.regulations.gov Web page contains simple instructions on how to access all documents, including public comments, in the docket. See section VII, “Public Participation,” of the March 12, 2015 NOPR for further information on how to submit comments through www.regulations.gov.

For further information on how to submit a comment or review other public comments and the docket, contact Ms. Brenda Edwards at (202) 586-2945 or by email: Brenda.Edwards@ee.doe.gov.

FOR FURTHER INFORMATION CONTACT: Mr. John Cymbalsky, U.S. Department of Energy, Office of Energy Efficiency and Renewable Energy, Building Technologies Office, EE-5B, 1000 Independence Avenue SW., Washington, DC 20585-0121. Telephone: (202) 287-1692. Email: residential_furnaces_and_boilers@ee.doe.gov.

Mr. Eric Stas, U.S. Department of Energy, Office of the General Counsel, GC-33, 1000 Independence Avenue SW., Washington, DC 20585-0121. Telephone: (202) 5869507. Email: Eric.Stas@hq.doe.gov.

For information on how to submit or review public comments and the docket, contact Ms. Brenda Edwards at (202) 586-2945 or by email: Brenda.Edwards@ee.doe.gov.

SUPPLEMENTARY INFORMATION: DOE published a NOPR in the Federal Register to make available and invite public comments on its analysis regarding potential energy conservation standards for certain residential furnaces. 80 FR 13120 (March 12, 2015). The document set a deadline for the submission of written comments by June 10, 2015. The American Gas Association (AGA) and the Southern California Gas Company (SoCalGas) each requested an extension of the public comment period, stating that additional time is necessary to review the published analysis in order to prepare and submit comments. After careful consideration of these requests, DOE has determined that extending the comment period to allow additional time for interested parties to submit comments is appropriate based on the foregoing reason. DOE believes that extending the comment period by 30 days will provide the public with sufficient time to submit comments responding to DOE's analysis. Accordingly, DOE is extending the comment period to midnight of July 10, 2015 and will deem any comments received (or postmarked) by that date to be timely submitted.

Issued in Washington, DC, on May 12, 2015.
Kathleen B. Hogan,
Deputy Assistant Secretary for Energy Efficiency and Renewable Energy.

[FR Doc. 2015-12218 Filed 5-19-15; 8:45 am]

BILLING CODE 6450-01-P